DEPARTMENT OF HEALTH AND HUMAN SERVICES

Agency for Healthcare Research and Quality

Agency Information Collection Activities: Proposed Collection; Comment Request

AGENCY: Agency for Healthcare Research and Quality, HHS.

ACTION: Notice.

SUMMARY: This notice announces the intention of the Agency for Healthcare Research and Quality (AHRQ) to request that the Office of Management and Budget (OMB) approve the proposed changes to the currently approved information collection project: “Medical Expenditure Panel Survey—Insurance Component.” In accordance with the Paperwork Reduction Act, 44 U.S.C. 3501-3521, AHRQ invites the public to comment on this proposed information collection.

DATES: Comments on this notice must be received by February 22, 2013.

ADDRESSES: Written comments should be submitted to: Doris Lefkowitz, Reports Clearance Officer, AHRQ, by email at doris.lefkowitz@AHRQ.hhs.gov.

Copies of the proposed collection plans, data collection instruments, and specific details on the estimated burden can be obtained from the AHRQ Reports Clearance Officer.

FOR FURTHER INFORMATION CONTACT: Doris Lefkowitz, AHRQ Reports Clearance Officer, (301) 427-1477, or by email at doris.lefkowitz@AHRQ.hhs.gov.

SUPPLEMENTARY INFORMATION:

Proposed Project

Medical Expenditure Panel Survey—Insurance Component

Employer-sponsored health insurance is the source of coverage for 85 million current and former workers, plus many of their family members, and is a cornerstone of the U.S. health care system. The Medical Expenditure Panel Survey—Insurance Component (MEPS-IC) measures the extent, cost, and coverage of employer-sponsored health insurance on an annual basis. Private industry statistics are produced at the National, State, and sub-State (metropolitan area) level and State and local government statistics at the National and Census Region level. Statistics are also produced for State and Local governments. The MEPS-IC was last approved by OMB on December 12th, 2012 and will expire on December 31st, 2014. The OMB control number for the MEPS-IC is 0935-0110. All of the supporting documents for the current MEPS-IC can be downloaded from OMB's Web site at http://www.reginfo.gov/public/do/PRAViewDocument?ref_nbr=201110-0935-001.

The current MEPS-IC clearance noted the possibility of making changes to the 2013 MEPS-IC survey in order to address data needs for Patient Protection and Affordable Care Act (PPACA) and other issues. AHRQ solicited input on possible new questions from a working group of over 50 individuals that included multiple representatives from the U.S. Department of Health and Human Services' Assistant Secretary for Planning and Evaluation (ASPE), the Center for Medicare & Medicaid Services' (CMS) Center for Consumer Information and Insurance Oversight, the CMS Office of the Actuary, the National Center for Health Statistics, the President's Council of Economic Advisors, the Office of Management and Budget, the Bureau of Labor Statistics, the Employee Benefits Security Administration, and the Bureau of the Census.

After the working group agreed on a reasonable number of specific questions, the Bureau of the Census, at AHRQ's direction, conducted a pretest of these questions on a sampled set of 2012 MEPS-IC survey respondents. A telephone pretest was conducted in the spring and summer of 2012. The results of this pretest, conducted under the Census Bureau's generic pretest clearance process, led to AHRQ recommending that a subset of the tested questions be added to the survey in 2013. To avoid increasing the overall burden on survey respondents, a proportional number of questions have been proposed for deletion. Questions identified for deletion were those with limited analytic value and/or below-average response rates. The AHRQ recommendations were accepted by the HHS Data Council in November 2012.

For all establishment-level MEPS-IC forms, AHRQ proposes to make the following changes to questions asked of employers who offer health insurance:

Additions

• Did your organization offer health insurance to unmarried domestic partners of the same sex? Yes/No/Don't Know

• Did your organization offer health insurance to unmarried domestic partners of the opposite sex? Yes/No/Don't Know

Deletions

• For 2013, what was the TYPICAL waiting period before new employees could be covered by health insurance? Less than 2 weeks/2 weeks to less than 1 month/Until the first day of the next month/1-3 months/More than 3 months

• Did your organization place any limits or restrictions on health insurance coverage for the spouse of an employee if the spouse had access to coverage through another employer? Yes/No/Don't Know

For all plan-level MEPS-IC forms, AHRQ proposes to make the following changes:

Additions

• (For self-insured health plans that purchase stop-loss coverage) What is the specific stop-loss coverage amount per employee? $___.00

• Did the premiums for this insurance plan vary by any of these characteristics? Smoker/non-smoker will be added to current list of Age, Gender, Wage or Salary levels, and Other. The “Premiums did not vary” response checkbox will be deleted and replaced with Yes/No/Don't Know responses for each characteristic.

• Did the amount an employee contributed toward his/her own coverage vary by any of these employee characteristics? Participation in a fitness/weight loss program and participation in a smoking cessation program will be added to the current list of Hours worked, Union status, Wage or salary level, Occupation, Length of employment, and Other. The “Employee contribution did not vary” response checkbox will be deleted and replaced with Yes/No/Don't Know responses for each characteristic.

• Which of the services listed were covered by the plan? Routine vision care for children, Routine dental care for children, Mental health care, and Substance abuse treatment will be added Routine vision care for adults and Routine dental care for adults will replace Routine vision care and Routine dental care respectively. Chiropractic care remains unchanged.

• Is this a Grandfathered health plan as defined by the Affordable Care Act? Yes/No/Don't know

Deletions

• How many different pricing categories or tiers of prescription drug coverage were there for this plan? Number of tiers ___ or Don't know

• What was the MAXIMUM amount this plan would have paid for an enrollee in ONE YEAR? $___ or No annual maximum

• An employer can offer a Health Reimbursement Arrangement (HRA) by setting up an account to reimburse employees for medical expenses not covered by health insurance. Did your organization offer an HRA associated with this plan in 2013? HRAs are NOT Flexible Spending Accounts (FSAs) or Health Savings Accounts (HSAs). Yes/No/Don't Know

The MEPS Definitions form—MEPS-20(D)—will also be updated with new definitions for terms used in these new questions (and the deletion of terms used only in the deleted questions).

There are no changes to the 2013 MEPS-IC survey estimates of cost and hour burdens due to these proposed question changes. The response rate for the MEPS-IC survey also is not expected to change due to these proposed changes.

The MEPS-IC is conducted pursuant to AHRQ's statutory authority to conduct surveys to collect data on the cost, use and quality of health care, including the types and costs of private health insurance. 42 U.S.C. 299b-2(a).

Method of Collection

There are no changes to the current data collection methods.

Estimated Annual Respondent Burden

There are no changes to the current burden estimates.

Estimated Annual Costs to the Federal Government

There are no changes to the current cost estimates.

Request for Comments

In accordance with the Paperwork Reduction Act, comments on AHRQ's information collection are requested with regard to any of the following: (a) Whether the proposed collection of information is necessary for the proper performance of AHRQ healthcare research and healthcare information dissemination functions, including whether the information will have practical utility; (b) the accuracy of AHRQ's estimate of burden (including hours and costs) of the proposed collection(s) of information; (c) ways to enhance the quality, utility, and clarity of the information to be collected; and (d) ways to minimize the burden of the collection of information upon the respondents, including the use of automated collection techniques or other forms of information technology.

Comments submitted in response to this notice will be summarized and included in the Agency's subsequent request for OMB approval of the proposed information collection. All comments will become a matter of public record.

Dated: December 13, 2012.
Carolyn M. Clancy,
Director.

[FR Doc. 2012-30631 Filed 12-21-12; 8:45 am]

BILLING CODE 4160-90-M